DEPARTMENT OF DEFENSE

Department of the Air Force

Notice of Intent To Prepare an Environmental Impact Statement for the Construction and Operation of the Air Force Maui Optical and Supercomputing Site Small Telescope Advanced Research Facility on the Island of Maui, Hawaíi

AGENCY: Department of Defense, Department of the Air Force.

ACTION: Notice of intent.

SUMMARY: The Department of the Air Force (DAF) is issuing this notice of intent (NOI) to prepare an Environmental Impact Statement (EIS) to assess the potential environmental and socioeconomic impacts associated with the proposed construction and operation of the Air Force Maui Optical and Supercomputing Site Small Telescope Advanced Research (AMOS STAR) facility on the island of Maui, Hawaíi (the Proposed Action). DAF is the Lead Agency and has invited the Federal Aviation Administration (FAA) and the National Park Service (NPS) to participate as Cooperating Agencies in the NEPA process. The project proponent is the 15th Space Surveillance Squadron (15 SPSS), a blended asset unit with assigned personnel from the U.S. Space Force Space Operations Command and the Air Force Research Laboratory (AFRL).

DATES: A public scoping period of 45 days will start on the date of publication of this NOI in the Federal Register. Through the scoping process, the DAF is inviting input regarding potential alternatives, information, and analysis relevant to the Proposed Action. The DAF will be conducting analysis and consultation to comply with Section 106 of the National Historic Preservation Act (NHPA) and is soliciting comments and concerns regarding the effect of the project on historic properties. Comments will be accepted at any time during the environmental impact analysis process; however, to ensure the DAF has sufficient time to consider public scoping comments during preparation of the Draft EIS, please submit comments within the 45-day scoping period.

The Notice of Availability (NOA) of the Draft EIS is anticipated to be published in early 2025; and the NOA of the Final EIS is anticipated in early 2026. A decision could be made no earlier than 30 days after the Final EIS.

The DAF invites the public, stakeholders, and other interested parties to attend one or more of three scoping meetings to be held at community centers in Kahului, Pukalani, and Kīhei on Maui on the evenings of May 13, 14 and 15, 2024, from 6:00 p.m. to 9:00 p.m. The meeting on May 13 will be held at Kahului Community Center, 275 Uhu St., Kahului, Maui, HI, 96732, the meeting on May 14 will be held at Mayor H. Tavares Community Center, 91 Pukalani St., Pukalani, Maui, HI 96768, and the meeting on May 15 will be held at Kīhei Community Center, 303 E. Lipoa St., Kīhei, Maui, HI 96753. The meetings will provide an opportunity for attendees to learn more about the proposed AMOS STAR facility and the scope of the EIS. Project team members will be available to answer questions, and exhibits will be on view starting at 6:00 p.m. A presentation about the proposed AMOS STAR facility will be shown at 6:30 p.m. Attendees will have an opportunity to provide oral comments from approximately 7:00 p.m. to 9:00 p.m. Written comments are encouraged and can be submitted at any time during the 45-day scoping period.

ADDRESSES: The AMOS STAR EIS website at www.amosstareis.com can be used to submit comments on the scope of the EIS and comments regarding the effect of the project on historic properties. Alternatively, comments can be submitted by email to amosstareis@tetratech.com or by U.S. Mail to AMOS STAR EIS c/o Tetra Tech, 1230 Columbia Street, Suite 1000, San Diego, CA 92101. For other AMOS STAR facility inquiries, or for assistance under the Americans with Disabilities Act, please call Ms. Emily Peacock, USSF Public Affairs, Space Base Delta 1 at (774) 545-0152 or email emily.peacock@spaceforce.mil.

SUPPLEMENTARY INFORMATION: The purpose of the Proposed Action is to provide dedicated satellite tracking and communication capability to allow the characterization, cataloging, and tracking of objects in space and to enable advanced research to expand the DAF's understanding of objects in the Pacific Theater. The DAF needs to expand the capabilities of AMOS STAR regarding space domain awareness. To expand this capability, additional telescopes need to be located at a site where there are favorable viewing conditions for observing objects in space in the Pacific Theater. Additionally, the 15 SPSS must be able to readily provide operational control and support to the additional telescopes.

The EIS will analyze the potential impacts of constructing and operating the AMOS STAR facility on 0.87 acres of a developed site adjacent to the Haleakalā Observatory and the 15 SPSS Maui Space Surveillance Complex (MSSC). The proposed facility of telescopes and an optics lab would be connected to and largely operated by existing high-speed fiber optic links and microwave transmissions from the AFRL and 15 SPSS facilities from the MSSC AEOS control room, and would require installation of utilities, additional fiber optic links, paved access and parking facilities, surface water management measures, and other site improvements. Electricity would be supplied from the island-wide grid; during power grid interruptions, power would be supplied by the diesel generator located on the south side of MSSC approximately 200 feet northeast of the AMOS STAR facility site.

The Proposed Action (Alternative 1) would consist of six telescopes enclosed in ground-mounted domes, one rooftop-mounted domed telescope, and use of an existing building for communication equipment and an optics laboratory for the rooftop telescope. Two of the telescopes under the Proposed Action would have laser communication capabilities. The EIS will also evaluate Alternative 2, a reduced build out alternative as a reasonable action alternative. Alternative 2 is similar to the Proposed Action (Alternative 1); under Alternative 2, only the 6 ground-mounted telescopes would be installed, and the existing building on the site would only be used for communication equipment storage. Alternative 2 would result in less intrusion on the viewshed of the site from points downslope, and less intensive use of the overall facility. The EIS will also analyze the effects of the No Action Alternative as prescribed by the Council on Environmental Quality regulations.

To implement the proposed action, the DAF would require an Outgrant Permit from the Federal Aviation Administration (FAA) and a Special Use Permit from the National Park Service (NPS) for roadway use. A federal Coastal Zone Management Act determination will be conducted and coordinated to determine consistency of the action with the Hawaíi Coastal Management Program. Additionally, a Conservation District Use Permit would be required from the Department of Land and Natural Resources, Office of Conservation and Coastal Lands.

Key resources of concern, for which adverse impacts could occur, include cultural and historical resources, visual resources, and biological resources. Those resource areas and others will be analyzed in the EIS to determine if impacts would be significant.

Scoping and Agency Coordination: Consultation will include, but not necessarily be limited to, consultation under Section 7 of the Endangered Species Act and consultation under Section 106 of the NHPA, to include consultation with federally recognized Native Hawaiian organizations. The DAF and Cooperating Agencies will determine the scope of the analysis by soliciting comments from interested local, State, and federally elected officials and agencies, federally recognized Native Hawaiian organizations, as well as interested members of the public.

Tommy W. Lee,
Acting Air Force Federal Register Liaison Officer.

[FR Doc. 2024-08540 Filed 4-19-24; 8:45 am]

BILLING CODE 3911-44-P